DEPARTMENT OF HEALTH AND HUMAN SERVICES

Centers for Disease Control and Prevention

Disease, Disability, and Injury Prevention and Control Special Emphasis Panel (SEP): Initial Review

Notice of Cancellation: This document corrects a notice that was published in the Federal Register on March 21, 2013 (78 FR 06434), announcing a teleconference that would include the initial review, discussion, and evaluation of applications received in response to “Indoor Environment of Low-Income Renovated Multifamily Housing in the Western Region of the United States (U01), Funding Opportunity Announcement EH-13-001.” This meeting is canceled.

Notice will be provided if the meeting is rescheduled in accordance with section 10(a)(2) of the Federal Advisory Committee Act (Pub.L. 92-463).

Contact Person for More Information: J. Felix Rogers, Ph.D., M.P.H., Scientific Review Officer, National Center for Injury Prevention and Control, CDC, 4770 Buford Highway, NE., Mailstop F63, Atlanta, Georgia 30341, Telephone: (770) 488-4334.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2013-07366 Filed 3-28-13; 8:45 am]

BILLING CODE 4163-18-P